DEPARTMENT OF THE INTERIOR

Bureau of Land Management

[14XL1109AF LLUT925000-L14200000-BJ0000-24-1A]

Notice of Filing of Plat of Survey; Utah

AGENCY: Bureau of Land Management, Interior.

ACTION: Notice of Filing of Plat of Survey.

SUMMARY: The Bureau of Land Management (BLM) will file a plat of survey of the lands described below in the BLM—Utah State Office, Salt Lake City, Utah, June 5, 2014.

FOR FURTHER INFORMATION CONTACT: Daniel W. Webb, Chief Cadastral Surveyor, Bureau of Land Management, Branch of Geographic Sciences, 440 West 200 South, Suite 500, Salt Lake City, Utah 84101-1345, telephone 801-539-4135, or dwebb@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: This survey was executed at the request of Wayne A. Wetzel, Field Office Manager, BLM—Richfield Field Office. The lands surveyed are:

Salt Lake Meridian, Utah

T. 22 S., R. 1 W., a corrective resurvey of a portion of the west boundary, the line between sections 6 and 7, and a portion of the subdivision of section 6, accepted April 25, 2014, Group No. 718, Utah.

A copy of the plat and related field notes will be placed in the open files. They will be available for public review in the BLM—Utah State Office as a matter of information.

Authority: 43 U.S.C. Chap. 3.

Juan Palma,
State Director.

[FR Doc. 2014-10332 Filed 5-5-14; 8:45 am]

BILLING CODE 4310-DQ-P